DEPARTMENT OF COMMERCE

National Oceanic and Atmospheric Administration

50 CFR Parts 600 and 660

[Docket No. 001226367-0367-01; I.D. 111901C]

Fisheries off West Coast States and in the Western Pacific; Pacific Coast Groundfish Fishery; Trip Limit Adjustment for Dover Sole in the Limited Entry Trawl Fishery

AGENCY: National Marine Fisheries Service (NMFS), National Oceanic and Atmospheric Administration (NOAA), Commerce.

ACTION: Inseason adjustment; request for comments.

SUMMARY: NMFS announces a 1,000 lb (454 kg)/trip limit of Dover sole in the limited entry trawl fishery coastwide for the month of December. This action, which is authorized by the Pacific Coast Groundfish Fishery Management Plan (FMP) and its implementing regulations, is within the 2001 optimum yield (OY) for Dover sole and is intended to allow landings of Dover sole caught incidentally in other flatfish fisheries.

DATES: Changes to management measures are effective 0001 hours local time December 1, 2001, unless modified, superseded, or rescinded through the effective dates of the 2002 specifications and management measures for the Pacific Coast groundfish fishery, which will be published in the Federal Register. Comments on this rule will be accepted through December 20, 2001.

ADDRESSES: Submit comments to D. Robert Lohn, Administrator, Northwest Region, NMFS, 7600 Sand Point Way NE, Seattle, WA 98115-0070; or to Rod McInnis, Acting Administrator, Southwest Region, NMFS, 501 West Ocean Blvd, Suite 4200, Long Beach, CA 90802-4213.

FOR FURTHER INFORMATION CONTACT: Yvonne deReynier or Jamie Goen, Northwest Region, NMFS, 206-526-6140.

SUPPLEMENTARY INFORMATION:

Electronic Access

This Federal Register document is also accessible via the internet at the website of the Office of the Federal Register: http://www.access.gpo.gov/su-docs/aces/aces140.html.

The Pacific Coast Groundfish FMP and its implementing regulations at 50 CFR part 660, subpart G, regulate fishing for over 80 species of groundfish off the coasts of Washington, Oregon, and California. Annual groundfish specifications and management measures are initially developed by the Pacific Fishery Management Council (Council) and are implemented by NMFS. The specifications and management measures for the current fishing year (January 1 through December 31, 2001) were published at 66 FR 2338, January 11, 2001, as amended at 66 FR 10208 (February 14, 2001), at 66 FR 18409 (April 9, 2001), at 66 FR 22467 (May 4, 2001), at 66 FR 28676 (May 24, 2001), at 66 FR 35388 (July 5, 2001), at 66 FR 38162 (July 23, 2001), at 66 FR 50851 (October 5, 2001), at 66 FR 54721 (October 30, 2001), and at 66 FR 55599 (November 2, 2001).

Among the more than 80 species managed under the FMP are Dover sole, thornyheads, sablefish, and flatfish (flatfish is used in this document to mean all flatfish listed at 50 CFR 660.302, except Dover sole). In the trawl fishery, Dover sole is targeted along with thornyheads and sablefish. Because these species are targeted together with trawl gear, they are managed as part of a multi-species complex consisting of Dover sole, thornyheads (shortspine and longspine), and sablefish, known as the DTS complex. In addition to the directed fishery for the DTS complex, Dover sole is also caught incidentally in other flatfish trawl fisheries on the continental shelf and slope.

Through August 2001, the best available information from PacFIN indicated that the DTS complex was approaching the commercial landed catch OY for 3 of 4 species, Dover sole (92 percent), trawl-caught sablefish (89 percent) and shortspine thornyhead (79.7 percent). Based on recommendations from the Council’s September meeting, NMFS closed the limited entry trawl directed fishery for the DTS complex, including Dover sole, from October 2, 2001, through the effective date for the 2002 specifications and management measures in order to avoid exceeding the target landed catch OY of Dover sole, sablefish and shortspine thornyhead (66 FR 50851, October 5, 2001). However, other flatfish trawl fisheries, such as Petrale sole and arrowtooth flounder, have remained open since September. Thus, while it has been illegal to land Dover sole and any DTS complex species caught with trawl gear since October 2, 2001, Dover sole is still caught as bycatch in the other flatfish fisheries that have remained open and is assumed to be discarded. This discard is accounted for in calculating total catch by applying a discard rate recommended by the Council based on a trawl logbook analysis of the incidental catch of Dover sole in other flatfish fisheries.

PacFIN data have been updated since the September Council meeting. The best available information indicates that 93 percent of the Dover sole allocation had been taken through October 31, 2001, leaving 515 mt of the Dover sole OY available for harvest. In order to account for the Dover sole caught incidentally in the winter flatfish fisheries, the Council recommended at its October 29 through November 2, 2001, meeting in Millbrae, CA, to allow a 1,000 lb (454 kg)/trip limit of Dover sole in December for the limited entry trawl fleet. This action would allow vessels to retain Dover sole that would otherwise have been incidentally harvested and discarded. Allowing the incidental retention of Dover sole in the flatfish fisheries is not expected to increase incidental interception of sablefish and shortspine thornyhead because flatfish trawling requires different fishing techniques and occurs in different fishing grounds than in the directed DTS trawl fisheries. Taking into account the number of vessels and trips per vessel by other flatfish fisheries over the past 3 years during the month of December, opening up this trip limit for incidentally caught Dover sole is expected to add another 200 to 300 mt to the landed catch OY, well within the approximately 500 mt of remaining OY.

NMFS Actions

NMFS concurs with the Council's recommendation and hereby announces a trip limit for the limited entry trawl fishery coastwide of 1,000 lb (454 kg)/trip of Dover sole from December 1, 2001, through the effective date of the 2002 specifications and management measures for the Pacific Coast groundfish fishery. This trip limit is intended to allow for Dover sole caught incidentally in other flatfish trawl fisheries.

Accordingly, at 66 FR 2338, January 11, 2001, as subsequently amended, in Section IV, under B. Limited Entry Fishery, Table 3 is revised to read as follows:

IV. NMFS Actions

B. Limited Entry Fishery

* * * * *

* * * * *

Classification

This action is authorized by the regulations implementing the FMP and the annual specifications and management measures published at 66 FR 2338 (January 11, 2001), as amended at 66 FR 10208 (February 14, 2001), at 66 FR 18409 (April 9, 2001), at 66 FR 22467 (May 4, 2001), at 66 FR 28676 (May 24, 2001), at 66 FR 35388 (July 5, 2001), and 66 FR 38162 (July 23, 2001), at 66 FR 50851 (October 5, 2001), at 66 FR 54721 (October 30, 2001), and at 66 FR 55599 (November 2, 2001), and are based on the most recent data available.

The Assistant Administrator for Fisheries, NOAA, (AA) finds good cause to waive the requirement to provide prior notice and comment on this action pursuant to 5 U.S.C. 553(b)(B), as providing prior notice and opportunity for comment would be impracticable. It would be impracticable because the trip limit allowance is only effective for approximately the last 30 days of the fishing year. Dover sole is below its target landed catch OY for the 2001 fishing year, and any delay in action would not provide enough time for the fisheries to have access to the remaining Dover sole OY. Thus, any delay in action would unnecessarily restrict commercial fishers and impede NMFS’s responsibility under the FMP to manage groundfish fisheries to achieve OY.

For these reasons, good cause also exists to waive the 30-day delay in effectiveness requirement of 5 U.S.C. 553 (d)(3).

This action is taken under the authority of 50 CFR 660.323 (b)(1) and is exempt from review under Executive Order 12866.

Authority: 16 U.S.C. 1801 et seq.

Dated: November 30, 2001.
Jonathan M. Kurland,
Acting Director, Office of Sustainable Fisheries, National Marine Fisheries Service.

[FR Doc. 01-30112 Filed 11-30-01; 4:02 pm]

BILLING CODE 3510-22-S